DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at Vol. 79, FR 18299-18300 dated April 1, 2014).

This notice reflects organizational changes to the Health Resources and Services Administration. This notice updates the functional statement for the Office of Federal Assistance Management (RJ), Division of Financial Integrity (RJ1). Specifically, this notice restructures the functions of the Division of Financial Integrity (RJ1) to serve as the focal point for resolving audit findings and ensuring compliance with program requirements.

Chapter RJ—Office of Federal Assistance Management

Section RJ-20, Functions

Delete the functional statement for the Division of Financial Integrity (RJ1), and replace in its entirety.

Division of Financial Integrity (RJ1)

(1) Coordinates Agency-wide efforts addressing HHS's Program Integrity Initiative; (2) serves as the Agency's focal point for resolving audit findings on HRSA programs resulting from the A-133 audits; (3) conducts financial reviews of grantee's use of HRSA funds; (4) conducts the pre-award financial assessment of HRSA grantees; (5) conducts the pre-award and post-award review of grant applicant's and grantee's accounting systems; (6) conducts ad hoc studies and reviews related to the financial integrity of the HRSA business processes related to assistance programs; (7) conducts 340B program audits of covered entities to ensure program integrity and compliance with 340B program requirements; (8) serves as the Agency's liaison with the Office of Inspector General for issues related to grants; (9) coordinates the Agency's response to the HHS Office of Inspector General Hotline complaints reporting possible fraudulent fiscal activities pertaining to HRSA grant funds; and (10) establishes an assessment model for grantee oversight.

Section RJ-30, Delegations of Authority

All delegations of authority and re-delegations of authority made to HRSA officials that were in effect immediately prior to this reorganization, and that are consistent with this reorganization, shall continue in effect pending further re-delegation.

This reorganization is effective upon date of signature.

Dated: April 25, 2014.
Mary K. Wakefield,
Administrator.

[FR Doc. 2014-10477 Filed 5-6-14; 8:45 am]

BILLING CODE 4165-15-P